ENVIRONMENTAL PROTECTION AGENCY

[FRL-8235-3]

Notice of Availability of Final NPDES General Permit for Small Municipal Separate Storm Sewer Systems in the Commonwealth of Puerto Rico and Federal Facilities in the Commonwealth of Puerto Rico

AGENCY: Environmental Protection Agency (EPA).

ACTION: Notice of Final NPDES General Permits—PRR040000 and PRR04000F.

SUMMARY: The Director of the Caribbean Environmental Protection Division (CEPD), Environmental Protection Agency-Region 2, is issuing notice for a final National Pollutant Discharge Elimination System (NPDES) general permit and accompanying response to comments for discharges from small municipal separate storm sewer systems (Small MS4) within urbanized areas to waters of the Commonwealth of Puerto Rico. This NPDES general permit establishes Notice of Intent (NOI) requirements, standards, prohibitions and management practices for discharges of storm water from municipal separate storm sewer systems within urbanized areas owned by the Commonwealth of Puerto Rico, or political subdivisions of the Commonwealth of Puerto Rico (including “municipios”), as well as the United States, and other systems located within an urbanized area that fall within the definition of an MS4. These include, for example, State departments of transportation (DOTs), public universities, penitentiaries, military installations and similar institutions with separate storm sewers drainage area. Owners and/or operators of small MS4s that discharge storm water will be required to submit a NOI to EPA-CEPD to be covered by the general permit and will receive a written notification from EPA-CEPD of permit coverage and authorization to discharge under the general permit. The eligibility requirements are discussed in the permit. The municipality must meet the eligibility requirements of the permit prior to submission of the NOI. This general permit does not cover new sources as defined under 40 CFR 122.2. Publication of this final general permit and response to comments complies with the requirements of 40 Code of Federal Regulations (CFR) 124.10.

DATES: The effective date of this permit is November 6, 2006. The permit will expire on November 7, 2011.

Public Meeting Information: EPA—Region 2 has participated in several conference meetings to provide information about the Storm Water Phase II program and its requirements. On September 28, 2006, CEPD offered a full day workshop on Small MS4 requirements and conditions from today's general permit. The workshop included a overview presentation on the storm water program, the conditions of the general permit under Phase 2, the six minimum requirement that the Small MS4 must meet, tools/resources and a question and answer session.

Notification Requirements: General permits for storm water discharges associated with Small MS4s within an urbanized area require the submittal of a Notices of Intent (NOI) prior to the authorization of such discharges. Today's general permit establishes NOI requirements to be covered under this permit and must be sent to EPA-Region 2, Caribbean Environmental Protection Division, Centro Europa Building, Suite 417, 1492 Ponce de Leon Avenue, San Juan, Puerto Rico 00907-4127; Attn: Sergio Bosques. Municipios, including State departments of transportation (DOTs), public universities, penitentiaries, military installations and similar institutions, must submit an NOI and other required information by February 5, 2007. A discharger is not precluded from submitting an NOI at a later date. However, EPA may bring appropriate enforcement actions. The NOI is found in Appendix C of today's general permit and contains the following information:

(1) Activities by the applicant that require obtaining an NPDES permit.

(Suggestion: This item can be addressed by a statement such as: “The Applicant Name operates a municipal separate storm sewer system located in (city name)”.)

(2) Name, mailing address, and location of the facility for which the application is submitted.

(Suggestion: In the context of the MS4 permitting program, this item should list the name(s), title(s), affiliation(s), mailing address(es), and telephone number(s) of the operator(s) of the MS4(s).)

(3) Standard Industrial Classification (SIC) Code that reflects the service provided by the facility.

(Suggestion: Generally speaking, the SIC code established by the Federal Office of Management and Budget for public administration/general Federal, State or local government activities is 9199. For additional information on SIC codes, check the Occupational Safety and Health Administration's Web site at: http://www.osha.gov/cgi-bin/sic/sicser5.)

(4) The operator name(s), address(es), telephone number(s), ownership status, and status as a Federal, State, local, tribal or other public entity.

(Suggestion: This item should identify the names and titles of the primary administrative and/or technical staff contacts for the municipal operator(s), if different from item #2.)

(5) A listing of any permits or construction approvals received or applied for under any of the following programs: Resource Conservation or Recovery Act; Underground Injection Control under the Safe Drinking Water Act; NPDES program under the Clean Water Act; Prevention of Significant Deterioration program under the Clean Air Act; Nonattainment program under the Clean Air Act; the National Emission Standards for Hazardous Air Pollutants preconstruction approval under the Clean Air Act, Ocean Dumping Permits under the Marine Protection Research and Sanctuaries Act; Dredge or fill permits under section 404 of the Clean Water Act; or other relevant environmental permits, including State permits.

(6) A topographic map (or other map if a topographic map is unavailable) extending one mile beyond the property boundaries of the source, depicting the facility and each of its intake and discharge structures; each of its hazardous waste treatment, storage, or disposal facilities; each well where fluids from the facility are injected underground; and those wells, springs, other surface water bodies, and drinking water wells listed in public records or otherwise known to the applicant in the map area.

(Suggestion: A map of the storm sewer system(s), showing the location of all outfalls and names and location of all waters of the United States that receive discharges from those outfalls, is most appropriate for fulfilling this requirement. If a map of such detail is not available, please include any reasonably available version of such a map and a schedule of when such a map will be available. (See 40 CFR 122.34(b)(3)(ii)(A) for a description of the mapping requirement.))

(7) A brief description of the nature of the business.

(Suggestion: In the context of the MS4 permitting program, briefly describe the MS4 in terms of its general characteristics, such as: capacity, general operation, or other relevant information.)

The following additional information is required as part of an NPDES application from regulated small MS4(s) according to 40 CFR 122.33(b)(2)(i) and 40 CFR 122.34(d)(1):

(8) An estimate of the square mileage served by the MS4(s);

(9) Descriptions of the best management practices (BMPs) to be implemented by the applicant or another entity for each of the six storm water minimum control measures described in 40 CFR 122.34(b)(1) through (b)(6);

(10) Descriptions of the measurable goals for each BMPs, including (as appropriate) the months and years in which the action will be taken, including interim milestones and the frequency of the action; and

(11) The person(s) responsible for implementing or coordinating the applicant's storm water management program (SWMP).

(Suggestion: Your description of the SWMP should identify those measures that are already in place or are underway, as well as measures that remain to be developed or implemented. As the operator of the MS4, you have the flexibility to determine the BMPs and measurable goals, for each minimum control measure, that are most appropriate for the system. It is not required that all BMPs be fully implemented and in place at the time of application. As stated in 40 CFR 122.34(a), EPA will require full implementation of the applicant's SWMP no later than the end of the first permit term (NPDES permits are typically issued for a 5 year period). The application package should fully summarize the SWMP that is anticipated for the area, and should acknowledge those BMPs that remain to be developed, including time lines and milestones for implementation.)

Today's final general permit requires all regulated small MS4s to develop and implement a SWMP. Program components include, at a minimum, 6 minimum measures to address: public education and outreach; public involvement; illicit discharge detection and elimination; construction site runoff control; post-construction storm water management in new development and redevelopment; and pollution prevention and good housekeeping of municipal operations. A regulated small MS4 is required to submit to CEPD the SWMP, and an electronic copy, including the BMPs to be implemented and the measurable goals for each of the minimum control measures listed above. After submitting the required NOI within February 5, 2007, the SWMP, including the electronic version must be submitted within August 3, 2007 to CEPD to the above address.

After February 5, 2007, all notified Small MS4s will have 180 days of their notification to submit an NOI and SWMP, including an electronic version of the information. This shall be also submitted to the address specified above.

FOR FURTHER INFORMATION CONTACT: Additional information concerning the permit may be obtained between the hours of 8:30 a.m. and 4:30 p.m., Monday through Friday, excluding holidays, from: Sergio Bosques, Caribbean Environmental Protection Division, Environmental Protection Agency, Region 2, Centro Europa Building, Suite 417, 1492 Ponce de Leon Avenue, San Juan, Puerto Rico 00907-4127; telephone: 787-977-5838; e-mail: bosques.sergio@epa.gov.

SUPPLEMENTARY INFORMATION:

A. Statutory and Regulatory History

Section 405 of the Water Quality Act of 1987 (WQA) added section 402(p) of the Clean Water Act (CWA), which directed EPA to develop a phased approach to regulate storm water discharges under the NPDES program. EPA published a final regulation on the second phase of this program on December 9, 1999, in the Federal Register, establishing permit application requirements for “storm water discharges associated with municipal separate storm sewer systems in urbanized areas”.

EPA believes that this Phase 2 rule provides consistency in terms of program coverage and requirements for existing and newly designated sources. For example, the rule includes most of the municipal donut holes, those MS4s located in incorporated places, townships or towns with a population under 100,000 that are within Phase I counties. These MS4s were not addressed by the NPDES storm water program until the Phase 2 rule while MS4s in the surrounding county are addressed. In addition, the minimum control measures required in the Phase 2 rule for regulated small MS4s are very similar to a number of the permit requirements for medium and large MS4s under the storm water program. Following the Phase 2 rule, permit requirements for all regulated MS4s will require implementation of BMPs.

Organization of Today's Permit

Today's permit covers storm water discharges from a wide variety of conveyances and/or systems within urbanized areas in Puerto Rico. Because the conditions which affect the presence of pollutants in storm water discharges vary among urbanized areas and watersheds, today's general permit provides broad discretion to the permittee to develop and implement a storm water management program and meet permit conditions. EPA believes that the flexibility provided in today's general permit facilitates watershed planning and compliance. Today's permit requires storm sewer system map, regulatory mechanism to prevent illicit discharges, plan to detect and address non-storm water discharges, education and measurable goals.

B. Executive Order 12866

EPA has determined that this general permit is not a “significant regulatory action” under the terms of Executive Order 12866 and is therefore not subject to OMB review.

C. Paperwork Reduction Act

EPA has reviewed the requirements imposed on regulated facilities resulting from the final construction general permit under the Paperwork Reduction Act of 1980, 44 U.S.C. 3501 et seq. The information collection requirements of this proposed permit are similar to other Regional general permits which were previously approved by the Office of Management and Budget under the provisions of the Paperwork Reduction Act, 44 U.S.C. 3501 et seq., and assigned OMB control numbers. However, information collection requirements of this proposed small municipal separate storm sewer system general permit will be submitted to OMB for review and approval and will be published in a Federal Register notice.

D. Regulatory Flexibility Act

The Regulatory Flexibility Act (RFA), 5 U.S.C. 601 et seq., requires that EPA prepare a regulatory flexibility analysis for rules subject to the requirements of 5 U.S.C. 553(b) that have a significant impact on a substantial number of small entities. The permit issued today, however, is not a “rule” subject to the requirements of 5 U.S.C. 553(b) and is therefore not subject to the Regulatory Flexibility Act.

E. Unfunded Mandates Reform Act

Section 201 of the Unfunded Mandates Reform Act (UMRA), Public Law 104-4, generally requires Federal agencies to assess the effects of their “regulatory actions” (defined to be the same as “rules” subject to the RFA) on State and local governments and the private sector. The permit issued today, however, is not a “rule” subject to the RFA and is therefore not subject to the requirements of UMRA.

Authority: Clean Water Act, 33 U.S.C. 1251 et seq.

Dated: September 21, 2006.
Carl-Axel P. Soderberg,
Director, Caribbean Environmental Protection Division, Region 2.

[FR Doc. E6-18643 Filed 11-3-06; 8:45 am]

BILLING CODE 6560-50-P